ENVIRONMENTAL PROTECTION AGENCY

[EPA-HQ-OAR-2020-0625; FRL-12627-01-OMS]

Agency Information Collection Activities; Submission to the Office of Management and Budget for Review and Approval; Comment Request; NESHAP for Vinyl Chloride (Renewal)

AGENCY: Environmental Protection Agency (EPA).

ACTION: Notice.

SUMMARY: The Environmental Protection Agency (EPA) has submitted an information collection request (ICR), NESHAP for Vinyl Chloride (EPA ICR Number 0186.17, OMB Control Number 2060-0071) to the Office of Management and Budget (OMB) for review and approval in accordance with the Paperwork Reduction Act. This is a proposed extension of the ICR, which is currently approved through February 28, 2025. Public comments were previously requested via the Federal Register on May 18, 2023 during a 60-day comment period. This notice allows for an additional 30 days for public comments.

DATES: Comments may be submitted on or before March 31, 2025.

ADDRESSES: Submit your comments, referencing Docket ID Number EPA-HQ-OAR-2020-0625, to EPA online using www.regulations.gov (our preferred method), by email to a-and-r-docket@epa.gov or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through February 28, 2025. An agency may not conduct or sponsor and a person is not required to respond to a collection of information unless it displays a currently valid OMB control number.

Public comments were previously requested via the Federal Register on May 18, 2023 during a 60-day comment period (88 FR 31748). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The National Emission Standards for Hazardous Air Pollutants (NESHAP) for Vinyl Chloride (40 CFR part 61, subpart F) were proposed on December 24, 1975; promulgated on October 21, 1976; and most recently amended on July 10, 1990. These regulations apply to existing facilities and new facilities that produce ethylene dichloride (EDC) by reaction of the following: (1) oxygen and hydrogen chloride with ethylene; (2) vinyl chloride (VC) by any process; and (3) one or more polymers containing any fraction of polymerized VC (i.e., polyvinyl chloride (PVC)). This subpart does not apply to equipment used in research and development if the reactor used to polymerize the VC has a capacity of no more than 0.19 cubic meters (m3). New facilities include those that commenced either construction or reconstruction after the date of proposal. This information is being collected to assure compliance with 40 CFR part 61, subpart F.

Form Numbers: None.

Respondents/affected entities: EDC, PVC, and VC plants.

Respondent's obligation to respond: Mandatory (40 CFR part 61, subpart F).

Estimated number of respondents: 25 (total).

Frequency of response: Initially, quarterly, and occasionally.

Total estimated burden: 10,210 hours (per year). Burden is defined at 5 CFR 1320.03(b).

Total estimated cost: $2,890,000 (per year), which includes $1,600,000 annualized capital or operation & maintenance costs.

Changes in the estimates: There is an increase of 3,670 hours in the total estimated respondent burden compared with the ICR currently approved by OMB. This adjustment is due to an increase of nine sources compared to the previous ICR. This increase in the number of sources is not due to a program change but is based on updated information collected by the U.S. EPA for other related rulemakings. The increased number of sources also resulted in an increase in the O&M costs. Additionally, the O&M costs increase due to an adjustment from 2008 $ to 2022 $ using the CEPCI CE Index.

Courtney Kerwin,
Director, Information Engagement Division.

[FR Doc. 2025-03252 Filed 2-27-25; 8:45 am]

BILLING CODE 6560-50-P